ENVIRONMENTAL PROTECTION AGENCY

[EPA-HQ-OPP-2021-0513; FRL-9716-01-OCSPP]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows a February 1, 2022, Federal Register Notice of Receipt of Requests from the registrants listed in Table 3 of Unit II to voluntarily cancel and amend to terminate uses of these product registrations. In the February 1, 2022, notice, EPA indicated that it would issue an order implementing the cancellations and amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective May 11, 2022.

FOR FURTHER INFORMATION CONTACT: Christopher Green, Registration Division (7502P), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0513, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744.

Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the Agency taking?

This notice announces the cancellations and amendments to terminate uses, as requested by registrants, of products registered under FIFRA section 3 (7 U.S.C. 136a). These registrations are listed in sequence by registration number in Tables 1 and 2 of this unit.

Table 1—Product Cancellations
Registration No. | Company No. | Product name | Active ingredients
432-1515 | 432 | BES0531 | Bacillus thuringiensis subspecies israelensis Strain BMP 144 solids, spores and insecticidal toxins.
524-487 | 524 | Harness 20G Granular Herbicide | Acetochlor.
524-496 | 524 | Mon 58430 Herbicide | Acetochlor.
524-497 | 524 | Mon 58442 Herbicide | Atrazine; Glyphosate-isopropylammonium & Acetochlor.
1258-1401 | 1258 | IWC 2300-G | Sodium bromide.
2693-70 | 2693 | Latenac Antifouling Red | Cuprous oxide.
2724-688 | 2724 | Security BT Dust Biological Insecticide | Bacillus thuringiensis subspecies kurstaki strain SA-12 solides, spores, and insecticidal toxins, ATCC # SD-1323.
4822-278 | 4822 | Raid Formula 278 Insect Killer | Permethrin.
5185-448 | 5185 | NABR97-E | Sodium bromide.
6836-264 | 6836 | Dantobrom TBS-2 | 2,4-Imidazolidinedione, 1-bromo-3-chloro-5,5-dimethyl-; 1,3-Dichloro-5,5-dimethylhydantoin & 1,3-Dichloro-5-ethyl-5-methylhydantoin.
6836-281 | 6836 | Dantobrom PG Granular | 2,4-Imidazolidinedione, 1-bromo-3-chloro-5,5-dimethyl-; 1,3-Dichloro-5,5-dimethylhydantoin & 1,3-Dichloro-5-ethyl-5-methylhydantoin.
7946-11 | 7946 | Mauget Inject-A-Cide B | Dicrotophos.
8622-25 | 8622 | Halobrom | 2,4-Imidazolidinedione, 1-bromo-3-chloro-5,5-dimethyl-.
8622-28 | 8622 | Halogene | 2,4-Imidazolidinedione, 1-bromo-3-chloro-5,5-dimethyl-.
8622-29 | 8622 | Halogene G | 2,4-Imidazolidinedione, 1-bromo-3-chloro-5,5-dimethyl-.
8622-30 | 8622 | Halogene T-30 | 2,4-Imidazolidinedione, 1-bromo-3-chloro-5,5-dimethyl-.
8622-41 | 8622 | Halobrom Mini Slow Dissolving Brominating Tablets for Pool & Spa | 2,4-Imidazolidinedione, 1-bromo-3-chloro-5,5-dimethyl-.
8622-70 | 8622 | Halobrom BCDMH 96% | 2,4-Imidazolidinedione, 1-bromo-3-chloro-5,5-dimethyl-.
8622-73 | 8622 | Halogene—Tab | 2,4-Imidazolidinedione, 1-bromo-3-chloro-5,5-dimethyl-.
8622-82 | 8622 | Halogene 96 | 2,4-Imidazolidinedione, 3-bromo-1-chloro-5,5-dimethyl-.
9688-84 | 9688 | Chemsico Lawn & Garden Insect Control | Permethrin.
9688-85 | 9688 | Chemsico Home Insect Control C | Permethrin.
9688-120 | 9688 | Chemsico Concentrate MP | Permethrin & Myclobutanil.
9688-149 | 9688 | Chemsico Insecticide Concentrate 57P | Permethrin.
9688-184 | 9688 | Chemsico Fire Ant Killer PD | Permethrin.
11678-78 | 11678 | Titanium 9.3 | Novaluron.
41750-3 | 41750 | Awlgrip Awlstar Anti-Fouling Gold Label BP802 White Lightning | Cuprous oxide.
62719-42 | 62719 | Reldan F Insecticidal Chemical | Chlorpyrifos-methyl.
73049-405 | 73049 | BTI Technical Powder Bioinsecticide | Bacillus thuringiensis subsp. israelensis strain EG2215.
74229-1 | 74229 | Magna Cide D | Nabam & Sodium dimethyldithiocarbamate.
80289-16 | 80289 | Dipron 10 EC | Novaluron.
87093-12 | 87093 | LN Iron HEDTA | Ferric HEDTA.
AR-970005 | 2217 | Acme Hi-Dep Herbicide | 2,4-D, diethanolamine salt & 2,4-D, dimethylamine salt.
CA-100003 | 66222 | Rimon 0.83 EC Insecticide | Novaluron.
ID-100005 | 66222 | Rimon 0.83 EC | Novaluron.
ID-180003 | 5481 | Parazone 3SL Herbicide | Paraquat dichloride.
ID-190005 | 5481 | Parazone 3SL Herbicide | Paraquat dichloride.
ID-190006 | 5481 | Parazone 3SL Herbicide | Paraquat dichloride.
ID-190007 | 5481 | Parazone 3SL Herbicide | Paraquat dichloride.
MT-060002 | 66222 | Rimon 0.83 EC | Novaluron.
OR-180005 | 5481 | Parazone 3SL Herbicide | Paraquat dichloride.
OR-160008 | 264 | Sivanto 200 SL | Flupyradifurone.
WA-050016 | 61282 | Prozap Zinc Phosphide Pellets | Zinc phosphide (Zn3P2).
WA-120012 | 59639 | Valor Herbicide | Flumioxazin.
WA-180003 | 5481 | Parazone 3SL Herbicide | Paraquat dichloride.
WY-060005 | 66222 | Rimon 0.83 EC | Novaluron.

Table 2—Product Registration Amendments To Terminate Uses
Registration No. | Company No. | Product name | Active ingredient | Uses to be terminated
10088-55 | 10088 | Non-Selective Herbicide #3 | Prometon | Weed control on railroad sidings.
10324-81 | 10324 | Maquat 7.5-M | Alkyl* dimethyl benzyl ammonium chloride *(50%C14, 40%C12, 10%C16); 1-Octanaminium, N,N-dimethyl-N-octyl-, chloride; 1-Decanaminium, N-decyl-N,N-dimethyl-, chloride & 1-Decanaminium, N,N-dimethyl-N-octyl-, chloride | Cadaver.
10324-177 | 10324 | Maquat 705-M | Alkyl* dimethyl benzyl ammonium chloride *(50%C14, 40%C12, 10%C16); 1-Octanaminium, N,N-dimethyl-N-octyl-, chloride; 1-Decanaminium, N-decyl-N,N-dimethyl-, chloride & 1-Decanaminium, N,N-dimethyl-N-octyl-, chloride | Cadaver.
66222-22 | 66222 | Pramitol 25E | Prometon | Railroads.
70506-575 | 70506 | Thiram 480DP | Thiram | Turf and golf.

Table 3 of this unit includes the names and addresses of record for all registrants of the products in Tables 1 and 2 of this unit, in sequence by EPA company number. This number corresponds to the first part of the EPA registration numbers of the products listed above.

Table 3—Registrants of Cancelled and Amended Products
EPA company No. | Company name and address
264 | Bayer CropScience, LP, Agent Name: Bayer CropScience, LLC, 801 Pennsylvania Avenue, Suite 900, Washington, DC 20004.
432 | Bayer Environmental Science, A Division of Bayer CropScience, LP, 700 Chesterfield Parkway West, Chesterfield, MO 63017.
524 | Bayer CropScience, LP, 801 Pennsylvania Ave. NW, Suite 900, Washington, DC 20004.
1258 | Innovative Water Care, LLC, 1400 Bluegrass Lakes Parkway, Alpharetta, GA 30004.
2217 | PBI/Gordon Corporation, 22701 W 68th Terrace, Shawnee, KS 66226.
2693 | International Paint, LLC, 6001 Antoine Drive, Houston, TX 77091.
2724 | Wellmark International, 1501 E Woodfield Road, Suite 200 West, Schaumburg, IL 60173.
4822 | S.C. Johnson & Son, Inc., 1525 Howe Street, Racine, WI 53403.
5185 | Bio-Lab, Inc., P.O. Box 300002, Lawrenceville, GA 30049-1002.
5481 | Amvac Chemical Corporation, 4695 Macarthur Court, Suite 1200, Newport Beach, CA 92660-1706.
6836 | Arxada, LLC, 412 Mount Kemble Avenue, Suite 200S, Morristown, NJ 07960.
7946 | J.J. Mauget Co., Agent Name: SciReg, Inc., 12733 Director's Loop, Woodbridge, VA 22192.
8622 | ICL-IP America, Inc., 11636 Huntington Road, Gallipolis Ferry, WV 25515.
9688 | Chemsico, A Division of United Industries Corp., One Rider Trail Plaza Drive, Suite 300, Earth City, MO 63045-1313.
10088 | Athea Laboratories, Inc., P.O. Box 240014, Milwaukee, WI 53224.
10324 | Mason Chemical Company, 9075 Centre Pointe Dr., Suite 400, West Chester, OH 45069.
11678 | Adama Makhteshim Ltd., Agent Name: Makhteshim-Agan of North America, Inc., D/B/A Adama, 3120 Highwoods Blvd., Suite 100, Raleigh, NC 27604.
41750 | International Paint, LLC, 6001 Antoine Drive, Houston, TX 77091.
59639 | Valent U.S.A., LLC, 4600 Norris Canyon Road, P.O. Box 5075, San Ramon, CA 94583.
61282 | Hacco, Inc., 620 Lesher Place, Lansing, MI 48912.
62719 | Corteva Agriscience, LLC, 9330 Zionsville Road, Indianapolis, IN 46268.
66222 | Makhteshim Agan of North America, Inc., D/B/A Adama, 3120 Highwoods Blvd., Suite 100, Raleigh, NC 27604.
70506 | UPL NA, Inc., 630 Freedom Business Center, Suite 402, King of Prussia, PA 19406.
73049 | Valent Biosciences, LLC, 1910 Innovation Way, Suite 100, Libertyville, IL 60048-6316.
74229 | Pro Tech USA, LLC, Agent Name: KRK Consulting, LLC, 5807 Churchill Way, Medina, OH 44256.
80289 | Isagro S.P.A., D/B/A Isagro USA, Inc., Agent Name: Exigent Sciences, LLC, 370 S Main St., Yuma, AZ 85364.
87093 | LNouvel, Inc., 4657 Courtyard Trail, Plano, TX 75024.

III. Summary of Public Comments Received and Agency Response to Comments

During the public comment period provided, EPA received no comments in response to the February 1, 2022, Federal Register notice announcing the Agency's receipt of the requests for voluntary cancellations and amendments to terminate uses of products listed in Tables 1 and 2 of Unit II.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is May 11, 2022. Any distribution, sale, or use of existing stocks of the products identified in Tables 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of February 1, 2022 (87 FR 5476) (FRL-9417-01-OCSPP). The comment period closed on March 3, 2022.

VI. Provisions for Disposition of Existing Stocks

Existing stocks are those stocks of registered pesticide products which are currently in the United States, and which were packaged, labeled, and released for shipment prior to the effective date of the action. The existing stocks provision for the products subject to this order is as follows.

For voluntary cancellations, listed in Table 1, the registrants may continue to sell and distribute existing stocks of products listed in Table 1 until May 11, 2023, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II under the previously approved labeling until November 11, 2023, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: April 29, 2022.
Marietta Echeverria,
Acting Director, Registration Division, Office of Pesticide Programs.

[FR Doc. 2022-10042 Filed 5-10-22; 8:45 am]

BILLING CODE 6560-50-P